ENVIRONMENTAL PROTECTION AGENCY

[FRL-9975-95—Region 4; CERCLA-04-2018-3750]

Black Leaf Chemical Superfund Site; Louisville, Jefferson County, Kentucky; Notice of Settlement

AGENCY: Environmental Protection Agency (EPA).

ACTION: Notice of settlement.

SUMMARY: Under 122(h) of the Comprehensive Environmental Response, Compensation and Liability Act (CERCLA), the United States Environmental Protection Agency has entered into a settlement with ExxonMobil Corporation, Grief, Inc., and Occidental Chemical Corporation concerning the Black Leaf Chemical Superfund Site located in Louisville, Jefferson County, Kentucky. The settlement addresses recovery of CERCLA costs for sampling, removal actions on 10 residential properties and investigation activities performed by the EPA at the Site.

DATES: The Agency will consider public comments on the settlement until April 26, 2018. The Agency will consider all comments received and may modify or withdraw its consent to the proposed settlement if comments received disclose facts or considerations which indicate that the proposed settlement is inappropriate, improper, or inadequate.

ADDRESSES: Copies of the settlement are available from the Agency by contacting Ms. Paula V. Painter, Program Analyst or accessing the Agency's website using the contact information provided in this notice. Comments may also be submitted by referencing the Site's name through one of the following methods:

• Internet: https://www.epa.gov/aboutepa/about-epa-region-4-southeast#r4-public-notices

• U.S. Mail: U.S. Environmental Protection Agency, Superfund Division, Attn: Paula V. Painter, 61 Forsyth Street SW, Atlanta, Georgia 30303

• Email: Painter.Paula@epa.gov

FOR FURTHER INFORMATION CONTACT: Paula V. Painter at 404/562-8887.

Dated: February 22, 2018.
Randall Chaffins,
Acting Chief, Enforcement and Community Engagement Branch, Superfund Division.

[FR Doc. 2018-06118 Filed 3-26-18; 8:45 am]

BILLING CODE 6560-50-P